NUCLEAR REGULATORY COMMISSION

10 CFR Part 51

RIN 3150-AD63

Environmental Review for Renewal of Nuclear Power Plant Operating Licenses; Correction

AGENCY: Nuclear Regulatory Commission.

ACTION: Final rule: Correcting amendment.

SUMMARY: This document contains a correction to the final regulations that were published in the Federal Register on June 5, 1996 (61 FR 28467), subsequently amended on December 18, 1996 (61 FR 66537), and reflected in the January 1, 2001, revision of the Code of Federal Regulations. This action corrects the regulations by adding an inadvertently omitted word. This correction is necessary to provide clarity and consistency in the regulations.

DATES: Effective July 30, 2001.

FOR FURTHER INFORMATION CONTACT: Barry Zalcman, Office of Nuclear Reactor Regulation, U.S. Nuclear Regulatory Commission, Washington, DC 20555-0001; telephone: 301-415-2419 (e-mail: BXZ@nrc.gov).

SUPPLEMENTARY INFORMATION:

Background

On June 5, 1996 (61 FR 28467), a final rule “Environmental Review for Renewal of Nuclear Power Plant Operating Licenses” was published in the Federal Register. The purpose of the rule was to amend the regulations regarding environmental protection for domestic licensing and related regulatory functions in 10 CFR part 51 to establish new requirements for the environmental review of applications to renew the operating licenses of nuclear power reactors. The rule was based on the analyses conducted and conclusions reported in NUREG-1437, “Generic Environmental Impact Statement for License Renewal of Nuclear Plants” (GEIS). The GEIS examines the environmental impacts that could occur as a result of renewing licenses of individual nuclear power plants under 10 CFR part 54, assessing a total of 92 issues. The findings regarding each of the 92 issues are summarized in 10 CFR part 51, Appendix B to Subpart A, Table B-1 “Summary Of Findings on NEPA Issues For License Renewal Of Nuclear Power Plants.”

After the final rule was published, an error was discovered in Table B-1 in the findings for the issue entitled “Offsite radiological impacts (collective effects)” under the heading of “Uranium Fuel Cycle and Waste Management.” The findings for “Offsite radiological impacts (collective effects)” correctly state that the 100 year environmental dose commitment to the U.S. population from the fuel cycle is calculated to be 14,800 person rem for each additional 20-year power reactor operating term. The findings, however, appear to include high level waste and spent fuel disposal in the calculation. It was the intent of the NRC to specify that high level waste and spent fuel disposal were excluded from this calculation, but the word “excepted” was inadvertently omitted. This intent is evident in Table B-1 as there is a separate finding for the issue of “Offsite radiological impacts (spent fuel and high level waste disposal),” which is the issue immediately following the issue under discussion, that of “Offsite radiological impacts (collective effects).” Moreover, the correct wording was included in the text in the Supplementary Information section of the June 5, 1996 final rule (61FR 28478), but was inadvertently omitted from the findings when placed into the Table format, (61 FR 28494).

Need for Correction

As published, the Code of Federal Regulations contain an error which is misleading and needs to be corrected.

List of Subjects in 10 CFR Part 51

Administrative practice and procedure, Environmental impact statement, Nuclear materials, Nuclear power plants and reactors, Reporting and recordkeeping requirements.

For the reasons set out in the preamble and under the authority of the Atomic Energy Act of 1954, as amended, the Energy Reorganization Act of 1974, as amended, and 5 U.S.C. 552 and 553, the NRC is making the following correcting amendment to 10 CFR part 51.

PART 51—ENVIRONMENTAL PROTECTION REGULATIONS FOR DOMESTIC LICENSING AND RELATED REGULATORY FUNCTIONS

1. The authority citation for Part 51 continues to read as follows:

Authority: Sec. 161, 68 Stat. 948, as amended, sec. 1701, 106 Stat. 2951, 2952, 2953 (42 U.S.C. 2201, 2297f); secs. 201, as amended, 202, 88 Stat. 1242, as amended, 1244 (42 U.S.C. 5841, 5842). Subpart A also issued under National Environmental Policy Act of 1969, secs. 102, 104, 105, 83 Stat. 853-854, as amended (42 U.S.C. 4332, 4334, 4335); and Pub. L. 95-604, Title II, 92 Stat. 3033-3041; and sec. 193, Pub. L. 101-575, 104 Stat. 2835 (42 U.S.C. 2243). Sections 51.20, 51.30, 51.60, 51.80, and 51.97 also issued under secs. 135, 141, Pub. L. 97-425, 96 Stat. 2232, 2241, and sec. 148, Pub. L. 100-203, 101 Stat. 1330-223 (42 U.S.C. 10155, 10161, 10168). Section 51.22 also issued under sec. 274, 73 Stat. 688, as amended by 92 Stat. 3036-3038 (42 U.S.C. 2021) and under Nuclear Waste Policy Act of 1982, sec. 121, 96 Stat. 2228 (42 U.S.C. 10141). Sections 51.43, 51.67, and 51.109 also under Nuclear Waste Policy Act of 1982, sec 114(f), 96 Stat. 2216, as amended (42 U.S.C. 10134(f)).

2. In appendix B to subpart A to 10 CFR part 51, Table B-1, the first sentence of findings section for the Offsite radiological impacts (collective effects) issue under the Uranium Fuel Cycle and Waste Management section is corrected to read as follows:

Appendix B To Subpart A—Environmental Effect of Renewing the Operating License of a Nuclear Power Plant

* * * * *

Table B-1.—Summary of Findings on NEPA Issues for License Renewal of Nuclear Power Plants
Issue | Category | Findings
* * * * * * *
Uranium Fuel Cycle and Waste Management
| * * * * * * *
Offsite radiological impacts (collective effects) | 1 | The 100 year environmental dose commitment to the U.S. population from the fuel cycle, high level waste and spent fuel disposal excepted, is calculated to be about 14,800 person rem, or 12 cancer fatalities, for each additional 20-year power reactor operating term. * * *

* * * * *

Dated at Rockville, Maryland, this 25th day of July 2001.
For the Nuclear Regulatory Commission.
Michael T. Lesar,
Chief, Rules and Directives Branch, Division of Administrative Services, Office of Administration.

[FR Doc. 01-18857 Filed 7-27-01; 8:45 am]

BILLING CODE 7590-01-P